DEPARTMENT OF THE INTERIOR

Bureau of Land Management

[LLNVB01000.L19900000.EX0000.21X.MO:4500152487]

Notice of Intent To Prepare an Environmental Impact Statement for Nevada Gold Mines LLC's Goldrush Mine Project, Lander and Eureka Counties, Nevada

AGENCY: Bureau of Land Management, Interior.

ACTION: Notice of intent to prepare an environmental impact statement.

SUMMARY: The Bureau of Land Management (BLM) will consider authorizing the proposed Nevada Gold Mines LLC (NGM) Goldrush Mine Project in Lander and Eureka Counties, Nevada.

DATES: The BLM requests comments concerning the scope of the analysis and identification of relevant information, studies, and analyses. All comments must be received by September 9, 2021. The Draft Environmental Impact Statement (EIS) is scheduled for publication in December 2021, and the Final EIS is scheduled for publication in April 2022, with a Record of Decision in May 2022. The BLM will announce dates of scoping meetings at least 15 days in advance of the meeting on the BLM National ePlanning website, https://go.usa.gov/xsVs8. Scoping meetings will be held online.

ADDRESSES: Send written comments to Goldrush Mine EIS c/o BLM Mount Lewis Field Office, 50 Bastian Road, Battle Mountain, NV 89820. Comments may also be sent via email to sdistel@blm.gov. Submit comments online at the website https://go.usa.gov/xsVs8.

FOR FURTHER INFORMATION CONTACT: Scott Distel, Project Manager, telephone: (775) 635-4093; address: 50 Bastian Road, Battle Mountain, Nevada 89820; email: sdistel@blm.gov. Individuals who use telecommunication devices for the deaf (TDD) may call the Federal Relay Service (FRS) at 1-800-877-8339 between 8 a.m. and 8 p.m., Eastern Time, Monday through Friday.

SUPPLEMENTARY INFORMATION:

Purpose and Need for the Proposed Action

The BLM's purpose for the action is to respond to NGM's proposal as described in the proposed Plan of Operations and to analyze the environmental effects associated with the proponent's Proposed Action and alternatives to the Proposed Action. The National Environmental Policy Act (NEPA) mandates that the BLM evaluate the effects of the Proposed Action and develop alternatives when necessary to lessen any effects to environmental resources. The BLM's need for the action is established by its responsibilities under Section 302 of the Federal Land Policy and Management Act and the BLM Surface Management Regulations at 43 CFR 3809 to respond to a proposed Plan of Operations and ensure that operations prevent unnecessary or undue degradation of public lands. NGM's purpose and need is to develop the mineral resource.

Preliminary Proposed Action and Alternatives

NGM is proposing to construct, operate, close, and reclaim a new underground mining project in the Cortez Mining District. The proposed Goldrush Mine is located approximately 30 miles south of Beowawe, Nevada, in Lander and Eureka Counties, Nevada.

The proposed Goldrush Mine Plan of Operations boundary would encompass approximately 19,895 acres, of which 772 acres would be on private land controlled by NGM and 19,123 acres on public lands administered by the BLM Battle Mountain District, Mount Lewis Field Office and BLM Elko District, Tuscarora Field Office. The proposed Goldrush Mine would include approximately 1,717 acres of new proposed disturbance and approximately 1,037 acres of existing/authorized and reclassified disturbance, for a total disturbance of approximately 2,754 acres.

The proposed underground mining and surface support activities for the Goldrush Mine would include: (1) A materials handling system for transporting ore and waste rock from the underground workings to the surface and transporting aggregate and supplies to the underground workings and surface backfill plant; (2) a dewatering system, including wells, pipelines and pipeline corridors, a water treatment plant (WTP), rapid infiltration basins (RIBs), and a multi-use shop; (3) a contact water pipeline; (4) ventilation raises; (5) a backfill aggregate paste plant and crusher; (6) a shotcrete/cemented rock fill (CRF) plant; (7) two new power lines, including a 120-kilovolt (kV) power line with two switching stations, and a 13.8-kV power line; (8) new ancillary surface facilities, including bulk material storage, access roads, power supply, stormwater controls, laydown and parking areas, lighting, growth media stockpiles, dewatering and monitoring wells, gravel pit expansion, potable water and septic systems, dry facilities (change rooms), service boreholes for electrical and fuel delivery, fire suppression system, water truck refill stations, emergency helipads, fencing, and modular information technology (IT) and communications buildings; (9) dual use of existing facilities within the nearby Cortez Mine Plan boundary; and (10) continued surface and underground exploration activities.

A fleet of over-the-road haul truck and trailer units would be used for ore transportation to either the NGM-operated Goldstrike or Gold Quarry off-site processing facilities. The Proposed Action would result in changes to the Horse Canyon Mine Plan (NVN-066896), Horse Canyon/Cortez Unified Exploration Project (HC/CUEP) Plan (NVN-066621), West Pine Valley Exploration Plan (NVN-077213), and Cortez Mine Plan (NVN-067575).

The Goldrush Mine would operate 24 hours per day, 365 days per year for approximately 24 years. The work force would be approximately 570 persons, which includes both NGM employees and contractors. The construction work force would be approximately 495 workers.

Reclamation of disturbed areas resulting from mining operations would be completed in accordance with BLM and Nevada Division of Environmental Protection (NDEP) regulations. Concurrent reclamation would take place where practicable and safe and when an area is no longer needed. Reclamation activities at the end of mining are anticipated to take approximately 36 months.

In addition to the No Action and the Proposed Action, other alternatives may be identified through scoping comments or through analysis.

Summary of Expected Impacts

The BLM has identified the following preliminary resource concerns associated with the Project: (1) Properties of Cultural and Religious Importance (PCRI) and Native American concerns. Up to 50 National Register of Historic Places-eligible or unevaluated cultural properties would be physically altered, resulting in an adverse effect to these cultural sites. Adverse impacts would occur to approximately 392 acres of the Horse Canyon PCRI. Vegetation communities important to Native American traditional values may be impacted by the Proposed Action. (2) Impacts to wildlife resources. Potential impacts include habitat change, habitat loss, alterations to water sources, fatalities as a result of collisions with vehicles, displacement due to human activity and disturbance, and impediments to movement through corridors. (3) Potential impacts to BLM sensitive species including greater sage-grouse and golden eagles. For greater sage-grouse, the Proposed Action would disturb approximately 805 acres of Priority Habitat Management Areas, 14 acres of General Habitat Management Areas, 618 acres of Other Habitat Management Areas, and 79 acres of Non-Habitat Management Areas. Exploration activities could result in up to 210 acres of additional disturbance to any of the greater sage-grouse habitat types. For golden eagles, the Proposed Action would result in the removal of 1,094 acres of foraging habitat. Additionally, eight golden eagle territories occur within one mile of the proposed Project disturbance area. (4) Potential impacts to visual resources. The Proposed Action would add form, line, texture, and color to the existing landscape. (5) Potential impacts to air quality. Modeling has determined that impacts from the Proposed Action would not exceed National Ambient Air Quality Standards for PM10, PM2.5, CO, NOX, and SO2. Total facility-wide Hazardous Air Pollutants (HAP) are estimated to be 1.8 tons per year (tpy), with 0.5 tpy of the highest single HAP, arsenic. The facility-wide HAP emissions are within U.S. Environmental Protection Agency (USEPA) thresholds. Greenhouse gas emissions, including off-site ore transport, are estimated to be 96,624 tpy CO2e. Mercury emissions are estimated to be 0.014 tpy. (6) Potential impacts to surface and groundwater resources. Potential impacts to seep, spring, and stream flow may occur from proposed dewatering operations if the source of the water is connected to the regional aquifer. Dewatering operations would also result in a lowering of the local groundwater table. Sedimentation and erosion may also occur due to Project-related surface disturbance. (7) Potential impacts to traffic. The Proposed Action would result in two ore hauling trucks per hour on the transportation route, as well as 89 trips each shift for employees and contractors during construction and up to 71 trips during operations along the transportation route. Changes in the level of service at some locations along the transportation route may occur, but there would be no degrading of the level of service below acceptable levels. (8) Potential impacts to livestock grazing. The Proposed Action would result in new surface disturbance of 1,717 acres, which would impact forage utilized by livestock. Approximately 119 Animal Unit Months (AUMs) would be impacted in the Carico Lake, Grass Valley, JD, and South Buckhorn allotments. The 210 acres of proposed exploration disturbance may result in an impact ranging from 9 to 19 AUMs, depending on the allotment in which the activities occur. (9) Potential impacts on vegetation communities and soil productivity. The Proposed Action would result in disturbance to soil and removal of vegetation on 1,717 acres. (10) Potential for subsidence. In the post-closure period, underground mine induced rock collapse may occur over open workings and result in the development of localized ground deformation/subsidence type features, which are unlikely to impact surface features due to the strength and thickness of the overlying rock, and any surface expression is anticipated to be local to the immediate mining area and not propagate extensively. Additionally, at the end of mining, model-predicted subsidence from dewatering may cause a four-inch contour of land with the potential for development of fissures. (11) Reclamation to reduce permanent disturbance. Approximately 2,232 acres of total surface disturbance would be reclaimed and would return to post-reclamation land uses, including open space, grazing, dispersed recreation, and wildlife habitat, while 523 acres would remain permanently altered.

The proposed project has the potential to affect golden eagle nests and territories; therefore, NGM has prepared an Eagle Conservation Plan (ECP) and has requested an incidental take permit for golden eagles in the area in which NGM proposes to conduct mining operations. The U.S. Fish and Wildlife Service (USFWS) is considering the applicant's request for incidental take, as allowed under the Bald and Golden Eagle Protection Act (Eagle Act) for the purpose of resource development and recovery operations. The USFWS will evaluate the applicant's ECP, which describes NGM's request for incidental take authorization for impacts resulting from their proposed mining operations. The DEIS will analyze any potential effects and impacts of the proposed project on golden eagles and may also analyze impacts and develop alternatives associated with the USFWS eagle take permit decision under the Eagle Act.

Anticipated Permits and Authorizations

The BLM anticipates that the following permits and authorizations will be required for the mine:

• Air Quality Operating Permit: NDEP (Bureau of Air Pollution Control)

• Eagle Take Permit: USFWS

• Explosives Permit: U.S. Bureau of Alcohol, Tobacco, Firearms, and Explosives

• General Stormwater Discharge Permit: NDEP (Bureau of Water Pollution Control)

• Hazardous Materials Storage Permit: Nevada Department of Public Safety, State Fire Marshall, and State Emergency Response Commission

• Industrial Artificial Pond Permit: Nevada Department of Wildlife (Habitat Division)

• Jurisdictional Delineation Report Concurrence: U.S. Army Corps of Engineers

• Liquefied Petroleum Gas License: Nevada Board of the Regulation of Liquefied Petroleum Gas Notification of Commencement of Operations MSHA

• Permit to Appropriate Water: Nevada Division of Water Resources

• Permit to Operate: Nevada Division of Minerals

• Plan of Operations/Record of Decision: BLM

• Potable Water System Permit: Nevada Bureau of Safe Drinking Water

• Radioactive Materials License: Nevada Division of Public and Behavioral Health

• Reclamation Permit and Reclamation Cost Determination: NDEP (Bureau of Mining Regulation and Reclamation)

• Section 401 Certification: NDEP (Bureau of Water Pollution Control)

• Septic Treatment Permit, Holding Tank Permit, Sewage Disposal System Permit: NDEP (Bureau of Water Pollution Control)

• Water Pollution Control Permit: NDEP (Bureau of Mining Regulation and Reclamation)

Schedule for the Decision-Making Process

The BLM anticipates a decision in May of 2022.

Public Scoping Process

This notice of intent initiates the scoping process, which guides the development of the environmental impact statement. Scoping meetings will be virtual. An announcement about when and how to access the virtual meetings online will be posted on the BLM's project website.

The purpose of public scoping is to identify relevant issues that will influence the scope of the environmental analysis, including alternatives, and guide the process for developing the environmental impact statement. The BLM will use and coordinate the NEPA public scoping to help fulfill the public involvement requirements under the National Historic Preservation Act (54 U.S.C. 306108) as provided in 36 CFR 800.2(d)(3). The information about historic and cultural resources within the area potentially affected by the proposed action will assist the BLM in identifying and evaluating impacts to such resources.

The BLM will conduct government-to-government consultation with Indian Tribes in accordance with Executive Order 13175 and other policies. Agencies will give due consideration to Tribal concerns, including impacts on Indian trust assets and treaty rights and potential impacts to cultural resources.

The BLM invites Federal, State, and local agencies, along with Tribes and other stakeholders that may be interested in or affected by the proposed Goldrush Mine to participate in scoping. Agencies with regulatory authority or special expertise, if eligible, may request or be requested by the BLM to participate in the development of the environmental analysis as a cooperating agency.

Request for Identification of Potential Alternatives, Information, and Analyses Relevant to the Proposed Action

The BLM requests assistance with identifying potential alternatives to the Proposed Action to be considered. As alternatives should resolve a problem with the Proposed Action, please indicate the purpose of the suggested alternative. The BLM also requests that potential impacts that should be analyzed be identified. Impacts should be a result of the action; therefore, please identify the activity and the potential impact that should be analyzed. Information that reviewers have that would assist in the development of alternatives or analysis of resources issues is also helpful.

Lead and Cooperating Agencies

The BLM is the lead agency. Cooperating agencies include the USFWS, the USEPA, the Nevada Department of Wildlife, the Nevada Department of Transportation, and Eureka County.

Decision Maker

The BLM Battle Mountain District Manager, Doug Furtado, is the responsible official.

Nature of Decision To Be Made

The BLM will issue a decision on the proposed Plan of Operations for the Goldrush mine project.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will also be accepted and considered.

Authority: 40 CFR 1501.7.

Bradlee A. Matthews,
Acting Field Manager, Mount Lewis Field Office, Battle Mountain District.

[FR Doc. 2021-17040 Filed 8-9-21; 8:45 am]

BILLING CODE 4310-HC-P